DEPARTMENT OF STATE

[Public Notice: 8801]

30-Day Notice of Proposed Information Collection: Certificate of Eligibility for Exchange Visitor Status (J-Non-Immigrant)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 20, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Robin J. Lerner, Deputy Assistant Secretary for Private Sector Exchange, ECA/EC, SA-5, Floor 5, U.S. Department of State, 2200 C Street NW., Washington, DC 20522-0505, who may be reached on (202) 632-3206 or at JExchanges@state.gov.

SUPPLEMENTARY INFORMATION: • Title of Information Collection: Certificate of Eligibility for Exchange Visitor Status (J-NONIMMIGRANT).

• OMB Control Number: OMB No. 1405-0119.

• Type of Request: Revision of a currently approved collection.

• Originating Office: Bureau of Educational and Cultural Affairs, Office of Policy and Program Support (ECA/EC).

• Form Number: DS-2019.

• Respondents: U.S. Department of State designated sponsors.

• Estimated Number of Respondents: 1,400.

• Estimated Number of Responses: 325,000.

• Average Time Per Response: 45 minutes.

• Total Estimated Burden Time: 243,750 hours.

• Frequency: On occasion.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The collection is the continuation of information collected and needed by the Bureau of Educational and Cultural Affairs in administering the Exchange Visitor Program (J-visa) under the provisions of the Mutual Educational and Cultural Exchange Act, as amended (22 U.S.C. 2451 et seq.). Among the changes to the collection are: A name change to “Certificate of Eligibility for Exchange Visitor Status (J-NONIMMIGRANT).” However, each completed form will continue to note whether it is for a J-1 or a J-2 recipient. In addition, there are updates to the Paperwork Reduction Act address listed on Form DS-2019 and to form usage information. There has been a change to the exchange visitor name field to read Surname/Primary Name and Given Name. Changes also have been made to the following fields in the electronic data-gathering portion of the form: email address will be a required field at the time of validation for all exchange visitors coming to the United States under the auspices of designated Exchange Visitor Program sponsors [all categories except for International Visitors (22 CFR 62.28), Government Visitors (22 CFR 62.29), and visitors on U.S. Department of State-funded programs]; there will be an optional field for the exchange visitor's U.S. telephone number; and there will be fields for both the exchange visitor's mailing address and physical address. Three changes have been made to the instruction portion of Form DS-2019: Flight Trainees have been removed as an exchange category, as these are no longer part of the Exchange Visitor Program; instructions clarify who should sign the J-1 and J-2 forms; and amounts in the Insurance section have changed.

Methodology: Access to Form DS-2019 is made available to Department-designated sponsors electronically via the Student and Exchange Visitor Information System (SEVIS).

Dated: July 11, 2014.
Nicole Deaner,
Managing Director, Office of Private Sector Exchange, Bureau of Educational and Cultural Affairs, U.S. Department of State.

[FR Doc. 2014-17125 Filed 7-18-14; 8:45 am]

BILLING CODE 4710-05-P